DEPARTMENT OF VETERANS AFFAIRS

48 CFR Part 801

RIN 2900-AQ18

VA Acquisition Regulation: Construction and Architect-Engineer Contracts; Correction

AGENCY: Department of Veterans Affairs.

ACTION: Final rule; correction.

SUMMARY: On March 19, 2019, the Department of Veterans Affairs (VA) published a rule updating its VA Acquisition Regulation (VAAR) in phased increments. The changes seek to streamline and align the VAAR with the FAR and remove outdated and duplicative requirements and reduce burden on contractors. An error occurred in one amendatory instruction. This document corrects that error.

DATES: This correction is effective April 18, 2019.

FOR FURTHER INFORMATION CONTACT: Mr. Rafael N. Taylor, Senior Procurement Analyst, Procurement Policy and Warrant Management Services, 003A2A, 425 I Street NW, Washington, DC 20001, (202) 382-2787. (This is not a toll-free number.)

SUPPLEMENTARY INFORMATION: On March 19, 2019, VA published a rule in the Federal Register (84 FR 9968) which contained an error in the description of the contents of section 801.106.

Correction

In FR Rule Doc. No. 2019-04900, appearing on page 9968 in the Federal Register of March 19, 2019, make the following correction:

§ 801.106 [Corrected]

1. On page 9971, in the third column, in section 801.106, correct instruction number 2.a. to read as follows:

“a. Remove the reference to 852.236-82 through 852.236-84 and the corresponding OMB Control Number 2900-0422, and remove the reference to 852.236-89 and the corresponding OMB Control Number 2900-0622.”

Date: April 8, 2019.
Consuela Benjamin,
Regulations Development Coordinator, Office of Regulation Policy & Management, Office of the Secretary, Department of Veterans Affairs.

[FR Doc. 2019-07193 Filed 4-10-19; 8:45 am]

BILLING CODE 8320-01-P